DEPARTMENT OF THE INTERIOR

Bureau of Land Management

[LLCO921000-L13200000-EL0000, COC76563]

Notice of Invitation To Participate; Coal Exploration License Application COC76563, Colorado

AGENCY: Bureau of Land Management, Interior.

ACTION: Notice of invitation.

SUMMARY: Pursuant to the Mineral Leasing Act of 1920, as amended by the Federal Coal Leasing Amendments Act of 1976, and to Bureau of Land Management (BLM) regulations, all interested parties are hereby invited to participate with GCC Energy, LLC, on a pro rata cost-sharing basis, in a program for the exploration of coal deposits owned by the United States of America in La Plata County, Colorado.

DATES: A Notice of Invitation was published in the Durango Herald, once each week for two consecutive weeks beginning the week of July 2, 2014. Any party electing to participate in this exploration program must send written notice to both GCC Energy, LLC, and the BLM as provided in the ADDRESSES section below, no later than December 3, 2014.

ADDRESSES: The exploration plan (serialized under number COC76563), as submitted by GCC Energy, LLC, is available for review in the BLM Colorado State Office, 2850 Youngfield Street, Lakewood, CO 80215, and the BLM Tres Rios—Durango Office, 15 Burnett Court, Durango, CO 81301, during normal business hours 9 a.m. to 4 p.m., Monday through Friday. Any party electing to participate in this exploration program shall notify the BLM Colorado State Director, in writing, at the BLM Colorado State Office (see address above) and GCC Energy, LLC, Attn: Seth McCourt, Mining Engineer, 6473 County Road 120, Hesperus, CO 81326.

FOR FURTHER INFORMATION CONTACT: Sharon A. Sales by telephone at 303-239-3987, or by email at ssales@blm.gov; or Helen Mary Johnson by telephone at 970-385-1359, or by email at h50johns@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The BLM regulations at part 43 CFR 3410 require publication in the Federal Register of an invitation to participate in the coal exploration (43 CFR 3410.2-1). The purpose of the exploration program is to gain additional geologic knowledge of the coal underlying the exploration area for the purpose of assessing the reserves for potential leasing. The Federal coal resources included in the exploration license application are located in the following described lands in La Plata County, Colorado:

New Mexico Principal Meridian

T. 35 N., R. 11 W.,

Sec. 17: lot 2, and lots 5 to 10, inclusive;

Sec. 17: N½SW¼;

Sec.18: lots 1 to 10, inclusive;

Sec. 18: NE¼, E½NW¼, NE¼SW¼, N½SE¼;

Sec. 19: lots 1, 2, 6, and 7;

Sec. 19: NE¼, E½NW¼;

Sec. 20: NW¼;

Sec. 30: lots 1 to 4, inclusive;

Sec. 30: NW¼NE¼, E½NW¼.

T. 35 N., R. 12 W.,

Sec. 13: N½NE¼, E½NW¼, SW¼NW¼, S½S½, NE¼SE¼;

Sec. 14: S½NE¼, SW¼, W½SE¼, SE¼SE¼;

Sec. 15: S½;

Sec. 21: E½, E½W½;

Sec. 22: N½, SW¼, W½SE¼;

Sec. 23: N½N½, SE¼NE¼, SE¼SW¼, SE¼;

Sec. 24: N½, SW¼, NW¼SE¼;

Sec. 25: lots 3, 4, 5, and 6.

The lands aggregate 4,846.2 acres.

The proposed exploration program will be conducted pursuant to an exploration plan to be approved by the BLM. The plan may be modified to accommodate the legitimate exploration needs of persons seeking to participate.

Authority: 43 CFR 3410.2-1(c)(1).

Ruth Welch,
BLM Colorado State Director.

[FR Doc. 2014-26049 Filed 10-31-14; 8:45 am]

BILLING CODE 4310-JB-P